ENVIRONMENTAL PROTECTION AGENCY

40 CFR Part 52

[R04-OAR-2004-KY-0001-200425(w); FRL-7868-8]

Approval and Promulgation of Implementation Plans for Kentucky: 1-Hour Ozone Maintenance Plan Update for Edmonson Area; Withdrawal of Direct Final Rule

AGENCY: Environmental Protection Agency (EPA).

ACTION: Withdrawal of direct final rule.

SUMMARY: Due to adverse comment, EPA is withdrawing the direct final rule published December 17, 2004, (69 FR 75473) approving revisions to the Edmonson County portion of the State Implementation Plan (SIP) submitted by the Commonwealth of Kentucky on August 24, 2004. The submittal provides the 10-year update to the original 1-hour ozone maintenance plans for three 1-hour ozone maintenance areas, including the Edmonson County Maintenance Area, and also provides revised 2004 motor vehicle emission budgets (MVEBs) and establishes 2015 MVEBs. EPA stated in the direct final rule that if EPA received adverse comment by January 18, 2005, the rule would be withdrawn and not take effect. EPA subsequently received adverse comment. EPA will address the comment in a subsequent final action based upon the proposed action also published on December 17, 2004 (69 FR 75495). EPA will not institute a second comment period on this action.

DATES: The direct final rule is withdrawn as of February 4, 2005.

FOR FURTHER INFORMATION CONTACT: Michele Notarianni, Air Planning Branch, U.S. Environmental Protection Agency Region 4, 61 Forsyth Street, SW., Atlanta, Georgia 30303-8960. ((404) 562-9031 (phone) or notarianni.michele@epa.gov (e-mail).)

List of Subjects in 40 CFR Part 52

Environmental protection, Air pollution control, Intergovernmental relations, Nitrogen dioxide, Ozone, Reporting and recordkeeping requirements, Volatile organic compounds.

Dated: January 24, 2005.
A. Stanley Meiburg,
Acting Regional Administrator, Region 4.

[FR Doc. 05-2069 Filed 2-3-05; 8:45 am]

BILLING CODE 6560-50-P